DEPARTMENT OF COMMERCE

National Telecommunications and Information Administration

Tactical Encryption and Key Management Workshop

AGENCY: National Telecommunications and Information Administration, U.S. Department of Commerce.

ACTION: Notice of open meeting.

SUMMARY: The Institute for Telecommunication Sciences (ITS) of the National Telecommunications and Information Administration (NTIA), U.S. Department of Commerce, will host a two-day workshop on Tactical Encryption and Key Management. The goal of the workshop is to identify solutions to the problem of how to dynamically key and re-key different groups with varying levels of access and for varying lengths of time using existing infrastructure or over an ad hoc network that is reliable and user friendly.

DATES: The workshop will be held on February 15-16, 2017, from 8:00 a.m. to 5:00 p.m., Mountain Standard Time.

ADDRESSES: The workshop will be located in Building 1 Lobby, Department of Commerce Boulder Laboratories, 325 Broadway, Boulder, Colorado.

FOR FURTHER INFORMATION CONTACT: Joseph Parks, Institute for Telecommunication Sciences, National Telecommunications and Information Administration, U.S. Department of Commerce, 325 Broadway, Boulder, CO 80305; telephone: (303) 497-5865; email: jparks@ntia.doc.gov. Please direct media inquires to NTIA's Office of Public Affairs: (202) 482-7002; email: press@ntia.doc.gov.

SUPPLEMENTARY INFORMATION: The Institute for Telecommunication Sciences (ITS) is the research and engineering laboratory of the National Telecommunications and Information Administration (NTIA), an agency of the U.S. Department of Commerce. ITS research enhances scientific knowledge and understanding in cutting-edge areas of telecommunications technology. The Institute's research capacity and expertise is used to analyze new and emerging technologies, and to contribute to standards creation. Research results are broadly disseminated through peer-reviewed publications as well as through technical contributions and recommendations to standards bodies. ITS research helps to drive innovation and contributes to the development of communications and broadband policies that enable a robust telecommunication infrastructure, ensure system integrity, support e-commerce, and protect an open global Internet.

Today, encryption and key management (E&KM) is a process that can be onerous, difficult, and time-consuming. We hypothesize that advances in processing efficiency and networking technologies can greatly simplify (or perhaps even automate) E&KM thus enabling secure dynamic coalitions and information flow control in mobile, tactical applications. We further hypothesize that these secure, dynamic coalitions and information control schemes can be constructed and maintained without a central, off-site coordination authority.

ITS will host a two-day workshop on Tactical EK&M to look into the future to see what E&KM may look like and will look at the present to see what technologies can be leveraged to take us there. The workshop is sponsored by the Defense Advanced Research Projects Agency (DARPA) and organized and hosted as a joint effort between ITS and the RAND Corporation.

ITS will post a detailed agenda on its Web site, https://www.its.bldrdoc.gov/resources/workshops/tekm-agenda.aspx, prior to the workshop, but such agenda is subject to change. Please refer to the ITS Web site for the most up-to-date meeting agenda and access information.

The meeting will be open to the public (U.S. Citizens only) and press on a first-come, first-served basis. Space is limited. Attendees must present valid government-issued photo identification upon arrival in order to enter the building, and must RSVP with Joseph Parks at least 48 hours in advance to be sponsored to access the site.

The public meeting is physically accessible to people with disabilities. Individuals requiring accommodations, such as sign language interpretation or other ancillary aids, are asked to notify Joseph Parks via the contact information provided above at least five (5) business days before the meeting.

Dated: January 31, 2017.
Kathy D. Smith,
Chief Counsel, National Telecommunications and Information Administration.

[FR Doc. 2017-02323 Filed 2-2-17; 8:45 am]

BILLING CODE 3510-60-P